DEPARTMENT OF THE TREASURY

Submission for OMB Review; Comment Request

May 28, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 9, 2003, to be assured of consideration.

Internal Revenue Service (IRS)

OMB Number: 1545-1545.

Regulation Project Number: REG-107644-97 Final.

Type of Review: Extension.

Title: Permitted Elimination of Pre-retirement Optional Forms of Benefit.

Description: The regulation permits an amendment to a qualified plan that eliminates certain pre-retirement optional forms of benefit.

Respondents: Business or other for-profit, Not-for-profit institutions.

Estimated Number of Recordkeepers: 135,000.

Estimated Burden Hours Per Recordkeeper: 22 minutes.

Frequency of Response: On occasion.

Estimated Total Reporting/Recordkeeping Burden: 92 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Treasury, PRA Clearance Officer.

[FR Doc. 03-14360 Filed 6-6-03; 8:45 am]

BILLING CODE 4830-01-P